NATIONAL COUNCIL ON DISABILITY

Sunshine Act Meetings

Type: Quarterly Meeting.

Dates and Times:

January 19, 2010, 8:30 a.m.-4:30 p.m.

January 20, 2010, 9 a.m.-5 p.m.

January 21, 2010, 8:30 a.m.-11 a.m.

Location: JW Marriott Houston, 5150 Westheimer, Houston, TX 77056.

Status:

January 19, 2010, 8:30 a.m.-4:30 p.m.—OPEN.

January 20, 2010, 9 a.m.-5 p.m.—OPEN.

January 21, 2010, 8 a.m.-8:30 a.m.—CLOSED EXECUTIVE SESSION.

January 21, 2010, 8:30 a.m.-11 a.m.—OPEN.

Agenda: Public Comment Sessions; Emergency Management; Housing; Developmental Disabilities and Bill of Rights Act, Workforce Infrastructure, International Development, National Summit on Disability Policy 2010, United States Marine Corps Research Project, Technology, Reports from the Chairperson and Council Members; Unfinished Business; New Business; Announcements; Adjournment.

Sunshine Act Meeting Contact: Mark S. Quigley, Director of External Affairs, NCD, 1331 F Street, NW., Suite 850, Washington, DC 20004; 202-272-2004 (voice), 202-272-2074 (TTY), 202-272-2022 (fax).

Agency Mission: National Council on Disability (NCD) is an independent federal agency, composed of 15 members appointed by the President, by and with the consent of the U.S. Senate.

The purpose of the NCD is to promote policies, programs, practices, and procedures that guarantee equal opportunity for all individuals with disabilities, and that empower individuals with disabilities to achieve economic self-sufficiency, independent living, and inclusion and integration into all aspects of society.

To carry out this mandate we gather public and stakeholder input, including that received at our public meetings held around the country; review and evaluate Federal programs and legislation; and provide the President, Congress and Federal agencies with advice and recommendations.

Accommodations: Those needing reasonable accommodations should notify NCD immediately.

Dated: November 18, 2009.
Michael C. Collins,
Executive Director.

[FR Doc. E9-28505 Filed 11-24-09; 4:15 pm]

BILLING CODE 6820-MA-P